NATIONAL AERONAUTICS AND SPACE ADMINISTRATION

[Notice: 21-032]

Name of Information Collection: NASA Serves the Public To Inspire Reach-Out and Engage (NSPIREHub)

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections.

DATES: Comments are due by August 2, 2021.

ADDRESSES: Written comments and recommendations for this information collection should be sent within 60 days of publication of this notice to www.reginfo.gov/public/do/PRAMain. Find this information collection by selecting “Currently under 60-day Review—Open for Public Comments” or by using the search function.

FOR FURTHER INFORMATION CONTACT: Requests for additional information or copies of the information collection instrument(s) and instructions should be directed to Claire Little, NASA Clearance Officer, NASA Headquarters, 300 E Street SW, JF0000, Washington, DC 20546 or email claire.a.little@nasa.gov.

SUPPLEMENTARY INFORMATION:

I. Abstract

The National Aeronautics and Space Administration (NASA) is committed to effectively performing the Agency's communication function in accordance with the Space Act Section 203(a)(3) to “provide for the widest practicable and appropriate dissemination of information concerning its activities and the results there of,” and to enhance public understanding of, and participation in, the nation's space program in accordance with the NASA Strategic Plan.

The NASA Serves the Public to Inspire Reach-Out and Engage (NSPIREHub) is a one-stop, web-based volunteer management system that streamlines communications, recruitment and marketing and enhances reporting and management of official outreach events. The NSPIREHub engages, informs and inspires current docents, employees (civil servants and contractors), interns and qualified members of the general public to share NASA's advancements, challenges and contributions through participation in official outreach (i.e., launch support, special events support activities, etc.).

The NSPIREHub utilizes a multiple tiered, role-based NAMS provisioning to empower system administrators to request and collect specific user information for the purpose of coordinating the carrying out of NASA's official outreach activities. These specific purposes include but are not limited To: Facilitating pre-event briefings, onsite and virtual support trainings, shadowing opportunities and assignment scheduling.

The information collected and protected within the NSPIREHub helps to ensure all outreach support team members, prior to serving, are equipped with the tools, skills and confidence necessary to share their stories in alignment with NASA's communication priorities. It also makes possible the efficient reporting of metric data relevant to the impact of official outreach on fulfillment of NASA's responsibilities as related to the Space Act, Section 203.

II. Methods of Collection

Electronic.

III. Data

Title: NASA Serves the Public to Inspire, Reach-out, and Engage VolunteerHub (NSPIREHub).

OMB Number:

Type of Review: New.

Affected Public: Individuals.

Estimated Annual Number of Activities: 5,250.

Estimated Number of Respondents per Activity: 3.

Annual Responses: 15,750.

Estimated Time per Response: 10 minutes.

Estimated Total Annual Burden Hours: 2,630.

Estimated Total Annual Cost: $66,938.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Lori Parker,
NASA PRA Clearance Officer.

[FR Doc. 2021-11526 Filed 6-1-21; 8:45 am]

BILLING CODE 7510-13-P